DEPARTMENT OF COMMERCE

National Oceanic and Atmospheric Administration

50 CFR Part 300

[RTID 0648-XE447]

Fraser River Sockeye Salmon Fisheries; In-Season Orders

AGENCY: National Marine Fisheries Service (NMFS), National Oceanic and Atmospheric Administration (NOAA), Commerce.

ACTION: Temporary rule; in-season orders.

SUMMARY: NMFS publishes in-season orders to regulate treaty tribal and non-tribal (all citizen) commercial salmon fisheries in United States (U.S.) waters of the Fraser River Panel (Panel) Area. In 2024, a single order was issued by the Panel of the Pacific Salmon Commission (Commission) and approved and issued by NMFS for fisheries within the U.S. Panel Area. This order relinquished regulatory control of U.S. treaty tribal and all citizen commercial fisheries in U.S. Panel Area waters.

DATES: The effective dates for the in-season order is set out in this document under the heading In-season Orders.

FOR FURTHER INFORMATION CONTACT: Anthony Siniscal at 971-322-8407, email: Anthony.siniscal@noaa.gov.

SUPPLEMENTARY INFORMATION: The Treaty between the Government of the United States of America and the Government of Canada concerning Pacific salmon was signed at Ottawa on January 28, 1985, and subsequently was given effect in the United States by the Pacific Salmon Treaty Act (Act) at 16 U.S.C. 3631-3644.

Under authority of the Act, Federal regulations at 50 CFR part 300, subpart F, provide a framework for the implementation of certain regulations of the Commission and in-season orders of the Commission's Panel for U.S. sockeye and pink salmon fisheries in the Fraser River Panel Area.

The regulations close the U.S. portion of the Panel Area to U.S. sockeye and pink salmon tribal and non-tribal commercial fishing unless opened by Panel regulations that are given effect by in-season orders issued by NMFS (50 CFR 300.94(a)(1)). During the fishing season, NMFS may issue in-season orders that establish fishing times and areas consistent with the Commission agreements and regulations of the Panel. Such orders must be consistent with domestic legal obligations and are issued by the Regional Administrator, West Coast Region, NMFS. Official notification of these in-season actions is provided by two telephone hotline numbers described at 50 CFR 300.97(b)(1) and in 89 FR 44553 (May 21, 2024). The in-season orders are published in the Federal Register as soon as practicable after they are issued. Due to the frequency with which in-season orders are generally issued, publication of orders during the fishing season is impracticable.

In-Season Orders

The Fraser Panel did not issue any orders opening fisheries on sockeye or pink salmon in 2024. NMFS issued the following in-season order for U.S. fisheries within Panel Area waters during the 2024 fishing season, consistent with the order adopted by the Panel. This order ended the period in which the Fraser Panel exerted regulatory jurisdiction. The in-season action was effective upon announcement on telephone hotline numbers as specified at 50 CFR 300.97(b)(1) and in 89 FR 44553 (May 21, 2024); those dates and times are listed herein. The times listed are in Pacific Daylight Time (PDT) and the areas designated are Puget Sound Management and Catch Reporting Areas as defined in the Washington State Administrative Code at Chapter 220-301-030.

Fraser River Panel Order Number 2024-01: Issued 12 p.m. PDT, August 30, 2024

Treaty Tribal Fishery

Areas 4B, 5, and 6C: Relinquish regulatory control effective 11:59 p.m. PDT, Monday, September 2, 2024.

Treaty Tribal and All Citizen Fishery

Areas 6, 7, and 7A: Relinquish regulatory control effective 11:59 p.m. PDT, Wednesday, September 4, 2024.

Classification

The Assistant Administrator for Fisheries NOAA (AA), finds that good cause exists for the in-season orders to be issued without affording the public prior notice and opportunity for comment under 5 U.S.C. 553(b)(B) as such prior notice and opportunity for comments is impracticable and contrary to the public interest. Prior notice and opportunity for public comment is impracticable because of insufficient time between the time the stock abundance information is available to determine how much fishing can be allowed and the time the fishery must open or close in order to harvest the appropriate amount of fish while they are available.

The AA also finds good cause to waive the 30-day delay in the effective date, required under 5 U.S.C. 553(d)(3), of the in-season orders. A delay in the effective date of the in-season orders would not allow fishers appropriately controlled access to the available fish at that time they are available.

This action is authorized by 50 CFR 300.97, and is exempt from review under Executive Order 12866.

Authority: 16 U.S.C. 3636(b).

Dated: December 10, 2024.
Karen H. Abrams,
Acting Director, Office of Sustainable Fisheries, National Marine Fisheries Service.

[FR Doc. 2024-29383 Filed 12-12-24; 8:45 am]

BILLING CODE 3510-22-P